DEPARTMENT OF THE INTERIOR

Bureau of Indian Affairs

Draft Environmental Impact Statement for the Ione Band of Miwok Indians' Proposed 228.04-Acre Fee-To-Trust Land Transfer and Casino Project, Amador County, CA

AGENCY: Bureau of Indian Affairs, Interior.

ACTION: Notice.

SUMMARY: This notice advises the public that the Bureau of Indian Affairs (BIA) as lead agency, with the Ione Band of Miwok Indians (Tribe), National Indian Gaming Commission, City of Plymouth, California, and U.S. Environmental Protection Agency (EPA), intends to file a Draft Environmental Impact Statement (DEIS) with the EPA for the proposed 228.04 acre trust acquisition and construction of casino project to be located within the City of Plymouth in Amador County, California and that the DEIS is now available for public review. This notice provides a 75-day public comment period and thereby grants a 30-day extension to the normal 45-day public comment period. This notice also announces a public hearing to receive comments on the DEIS.

DATES: Written comments on the DEIS must arrive by July 2, 2008. The public hearing will be held May 21, 2008, from 6 p.m. to 9 p.m., or until the last public comment is received.

ADDRESSES: You may mail or hand carry written comments to Dale Risling, Deputy Regional Director, Pacific Regional Office, Bureau of Indian Affairs, 2800 Cottage Way, Sacramento, California 95825. Please include your name, return address, and the caption, “DEIS Comments, Ione Band of Miwok Indians' Casino Project,” on the first page of your written comments.

The public hearing will be at the Amador County Fairgrounds, 18621 Sherwood and School Streets, Plymouth, California.

The DEIS is available for review at the Amador County Library, Jackson Main Library, 530 Sutter Street, Jackson, California 95642 and at the City Clerk, Plymouth City Hall, 9426 Main Street, Plymouth, California 95669. General information for the Amador County Library, Jackson Main Library, may be obtained by calling (209) 223-6400. General information for the City Clerk, Plymouth City Hall, may be obtained by calling (209) 245-6941.

If you would like to obtain a copy of the DEIS, please write or call John Rydzik, Chief of the Division of Environmental, Cultural Resource Management and Safety, at the BIA address above or the telephone number provided below. An electronic version of the DEIS may be viewed at http://www.ioneeis.com.

FOR FURTHER INFORMATION CONTACT: John Rydzik, (916) 978-6042.

SUPPLEMENTARY INFORMATION: The Tribe has requested that the BIA take into Federal trust 228.04 acres of land currently held in fee by the Tribe, on which the Tribe proposes to construct a casino, a hotel, parking areas and other facilities. The proposed project is located in the City of Plymouth in Amador County, California. The project site is located immediately east of State Highway 49 and is within 2½ miles of State Highway 16. The project site consists of 12 parcels of land totaling 228.04 acres. Eight of the 12 parcels (10.28 acres) are located within the City of Plymouth, while the remaining four parcels, approximately 218 acres, are located on unincorporated land within Amador County.

Phase I of the proposed action includes the development of a 120,000 square foot casino complex, which would consist of a porte cochere, main gaming hall, food and beverage services, retail space and administration space. Approximately 65,000 square feet of this building space would be devoted to the main gaming hall, while the balance of the facility would include administration space, small retail shops, food/beverage facilities and a small gift and art shop. This entire complex would be built on land currently within the City of Plymouth. Primary access to the casino complex would be via State Highway 49.

Phase II of the proposed action consists of the construction of a hotel (250 rooms maximum), which would include small conference style facilities, together with food and beverage services. The proposed hotel would also be fitted with a dual plumbing system for the use of potable and recycled water. In addition, site parking would be increased to supply adequate parking for hotel and conference patrons. The hotel is anticipated to be operational no sooner than the middle of year 3-4 of the project. Primary vehicle access to the hotel would be provided by the main casino and surface-parking driveway.

A range of project alternatives is considered in the DEIS, including: (1) Preferred casino and hotel; (2) reduced casino and hotel; (3) reduced casino, no hotel; (4) regional shopping development; and (5) no action. Environmental issues addressed in the DEIS include land resources, water resources, air quality, biological resources, cultural resources, socioeconomic conditions, resource use patterns, public services, other values including noise, hazards and hazardous materials and visual resources and environmental justice, cumulative effects, indirect effects, growth inducing effects and mitigation measures. Input from the public, including that from public scoping meetings the BIA held November 19, 2003, and February 4, 2004, at the Amador County Fairgrounds in Plymouth, California, was included in the development of these alternatives and issues.

Public Comment Availability

Comments, including names and addresses of respondents, will be available for public review at the BIA address shown in the ADDRESSES section, during business hours: 8 a.m. to 4:30 p.m., Monday through Friday, except holidays. Before including your address, phone number, e-mail address, or other personal identifying information in your comment, you should be aware that your entire comment—including your personal identifying information—may be made publicly available at any time. While you can ask us in your comment to withhold your personal identifying information from public review, we cannot guarantee that we will be able to do so.

Authority

This notice is published in accordance with section 1503.1 of the Council of Environmental Quality Regulations (40 CFR, parts 1500 through 1508) implementing the procedural requirements of the National Environmental Policy Act of 1969, as amended (42 U.S.C. 4371 et seq.), Department of the Interior Manual (516 DM 1-6), and is in the exercise of authority delegated to the Assistant Secretary—Indian Affairs by 209 DM 8.1.

Dated: January 22, 2008.
Carl J. Artman,
Assistant Secretary—Indian Affairs.

[FR Doc. E8-8334 Filed 4-17-08; 8:45 am]

BILLING CODE 4310-W7-P